DEPARTMENT OF HOUSING AND URBAN DEVELOPMENT

[Docket No. FR-4561-N-03]

HOPE VI Revitalization Application Forms

AGENCY: Officer of Public and Indian Housing, HUD.

ACTION: Notice.

SUMMARY: The proposed information collection requirement described below has been submitted to the Office of Management and Budget (OMB) for emergency review and approval, as required by the Paperwork Reduction Act. The Department is soliciting public comments on the subject proposal.

DATES: Comments Due Date: March 1, 2000.

ADDRESSES: Interested persons are invited to submit comments regarding this proposal. Comments should refer to the proposal by name or OMB approval number (2577-0208) should be sent to: Joseph F. Lackey, Jr., HUD Desk Officer, Office of Management and Budget, New Executive Office Building, Washington, DC 20410 (202) 395-7316.

FOR FURTHER INFORMATION CONTACT: Wayne Eddins, Reports Management Officer, Department of Housing and Urban Development, 451 7th Street, SW, Washington, DC 20410; e-mail Wayne_Eddins@HUD.gov; telephone (202) 708-2374. This is not a toll-free number. Copies of the proposed forms and other available documents submitted to OMB may be obtained from Mr. Eddins.

SUPPLEMENTARY INFORMATION: This Notice informs the public that the Department of Housing and Urban Development (HUD) has submitted to OMB, an information collection with respect to a Notice of Funding Availability for HOPE VI Revitalization grants. This information collection package submission to OMB for review is required by the Paperwork Reduction Act (44 U.S.C. Chapter 35). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected, and (4) Minimize the burden of the collection of information on those who are to respond, including through the use of appropriate automated collection techniques or other forms of information technology, e.g., permitting electronic submission of responses.

The Department has submitted the proposal for the collection of information, as described below, to OMB for review, as required by the Paperwork Reduction Act (44 U.S.C. Chapter 35):

The Department has requested emergency clearance of the collection of information, as described below, with approval being sought by February 29, 2000.

Title of Proposal: HOPE VI Revitalization Application Forms.

Description of the need for the information and proposed use: The HOPE VI Application Data Forms collect information in connection with the FY 2000 Notice of Funding Availability (NOFA) for the HOPE VI Revitalization Program. The NOFA announces funds available to public housing agencies (PHAs) to revitalize severely distressed public housing. funds were appropriated by the Department of Veterans Affairs and Housing and Urban Development, and Independent Agencies Appropriations Act 2000, (Pub. L. 107-74), approved October 20, 1999. The Application Data Forms are required elements of a HOPE VI Revitalization Application. They collected key data on numbers and kinds of units, costs, programs, and other information critical to the description of the proposed program. Use of these forms standardizes information that had been previously presented in narrative form, and assists the applicant in proving information that is consistent and correct.

The Department will use the information in the forms to rate and rank HOPE VI Revitalization applications, in accordance with the procedures outlined in the NOFA. HUD will award grants to applicants whose applications earn the most points, as described in the NOFA.

Applicants may complete the HOPE VI Data Forms in two ways. They may either type or print the information on a hard copy of the forms, taken from either the NOFA or the HOPE VI Application Kit, or they may download Microsoft Excel from the HOPE VI Home Page and fill out the forms electronically. In either case they must submit hard copies of the forms in their applications. If the latter method is used, the software makes certain calculations for the applicant.

Members of affected public: Approximately 80 PHAs are expected apply under the NOFA.

Estimation of the total number of hours needed to prepare the information collection including number of respondents, frequency of response, and hours of response: The Department expects that approximately 80 PHAs will each submit one application in response to the FY 2000 NOFA. Completion of the subject forms, including the gathering of information, is estimated at 190 hours per application, for a total annual burden hour estimate of 15,200. This is in addition to the burden hours required to complete the rest of the application.

Status of the proposed information collection: Pending OMB approval.

Authority: The Paperwork Reduction Act of 1995, 44 U.S.C. 35, as amended.

Dated: February 16, 2000.
Wayne Eddins,
Department Reports Management Officer, Office of the Chief Information Officer.

[FR Doc. 00-4314 Filed 2-22-00; 8:45 am]

BILLING CODE 4210-33-M